DEPARTMENT OF DEFENSE

Office of the Secretary

Meeting of the National Commission on the Structure of the Air Force

AGENCY: Director of Administration and Management, DoD.

ACTION: Notice of Advisory Committee Meeting.

SUMMARY: The Department of Defense is publishing this notice to announce a closed Federal advisory committee meeting of the National Commission on the Structure of the Air Force (“the Commission”).

DATES: Date of Closed Meeting: Wednesday, January 8, 2014, from 10:00 a.m. to 5:00 p.m.

ADDRESSES: 2521 South Clark Street, Suite 525, Arlington, VA 22202 and, as necessary, a secure video teleconferencing line.

FOR FURTHER INFORMATION CONTACT: Mrs. Marcia Moore, Designated Federal Officer, National Commission on the Structure of the Air Force, 1950 Defense Pentagon, Room 3A874, Washington, DC 20301-1950. Email: marcia.l.moore12.civ@mail.mil. Desk (703) 545-9113. Facsimile (703) 692-5625.

SUPPLEMENTARY INFORMATION:

Purpose of Meeting: The meeting on January 8, 2014 is being held under the provisions of the Federal Advisory Committee Act (FACA) of 1972 (5 U.S.C., Appendix, as amended), the Government in the Sunshine Act of 1976 (5 U.S.C. 552b, as amended), and 41 CFR 102-3.150. The Commission will address, correct, and approve the content of the classified annex to their unclassified report. The purpose of the classified annex is to allow individuals access to the classified analyses that contributed to and support the Commission's recommendations, as granted by the Congress and the President of the United States.

Agenda: The agenda and classified annex will cover the following topics:

— The changing mix of active and reserve component force structures.

— Whether the contribution of the reserve component to operational plans has increased since 1980.

— Specific reserve component contributions to Operation Iraqi Freedom and Operation Enduring Freedom.

— The increase of reserve component structure for classified mission areas.

— Descriptions of emerging, future capabilities.

— Integrated Security Construct scenarios and the environment that shapes the requirements and subsequent resource allocation decisions.

— Representative force mix models using actual data from Integrated Security Construct scenarios, whereby variables, such as numbers of aircraft, deploy to dwell and mob to dwell ratios, and budget targets are manipulated.

— Various strategic-basing scenarios, some of which may have classified implications.

— Projected challenges to the U.S. Air Force's ability to meet the demands of multiple scenarios.

— Classified documents that address financial, personnel, organizational and other factors for the Commission's recommendations, including the Strategic Choices and Management Review, Program Objective Memorandums, Defense Planning Guidance.

— Other classified analyses as required.

Meeting Accessibility: In accordance with section 10(d) of the FACA, 5 U.S.C. 552b, and 41 CFR 102-3.155, the DoD determined that the Wednesday, January 8, 2014 meeting will be closed to the public in its entirety. Specifically, the Director of Administration and Management, with the coordination of the DoD FACA Attorney, has determined in writing that this meeting will be closed to the public because classified information and matters covered by 5 U.S.C. 552b(c)(1) will be discussed.

Written Comments: Pursuant to 41 CFR 102-3.105(j) and 102-3.140 and section 10(a)(3) of the FACA, the public or interested organizations may submit written comments to the Commission in response to the stated agenda of the closed meeting or the Commission's mission. The Designated Federal Officer (DFO) will review all submitted written statements before forwarding to the Commission. Written comments should be submitted to Mrs. Marcia Moore, DFO, via facsimile or electronic mail, the preferred modes of submission. Each page of the comment must include the author's name, title or affiliation, address, and daytime phone number. All contact information may be found in the FOR FURTHER INFORMATION CONTACT section. While written comments are forwarded to the Commissioners upon receipt, note that all written comments on the Commission's charge, as described in the “Background” section, must be received by 5:00 p.m. on January 7, 2014 to be considered by the Commissioners. This deadline for emailed and faxed comments has been extended from December 13, 2013. The postmark deadline to mail comments was November 8, 2013.

Due to difficulties finalizing the meeting agenda for the scheduled meeting of January 8, 2014, of the National Commission on the Structure of the Air Force the requirements of 41 CFR 102-3.150(a) were not met. Accordingly, the Advisory Committee Management Officer for the Department of Defense, pursuant to 41 CFR 102-3.150(b), waives the 15-calendar day notification requirement.

Background

The National Commission on the Structure of the Air Force was established by the National Defense Authorization Act for Fiscal Year 2013 (Pub. L. 112-239). The Department of Defense sponsor for the Commission is the Director of Administration and Management, Mr. Michael L. Rhodes. The Commission is tasked to submit a report, containing a comprehensive study and recommendations, by February 1, 2014 to the President of the United States and the Congressional defense committees. The report will contain a detailed statement of the findings and conclusions of the Commission, together with its recommendations for such legislation and administrative actions it may consider appropriate in light of the results of the study. The comprehensive study of the structure of the U.S. Air Force will determine whether, and how, the structure should be modified to best fulfill current and anticipated mission requirements for the U.S. Air Force in a manner consistent with available resources.

The evaluation factors under consideration by the Commission are for a U.S. Air Force structure that—(a) meets current and anticipated requirements of the combatant commands; (b) achieves an appropriate balance between the regular and reserve components of the Air Force, taking advantage of the unique strengths and capabilities of each; (c) ensures that the regular and reserve components of the Air Force have the capacity needed to support current and anticipated homeland defense and disaster assistance missions in the United States; (d) provides for sufficient numbers of regular members of the Air Force to provide a base of trained personnel from which the personnel of the reserve components of the Air Force could be recruited; (e) maintains a peacetime rotation force to support operational tempo goals of 1:2 for regular members of the Air Forces and 1:5 for members of the reserve components of the Air Force; and (f) maximizes and appropriately balances affordability, efficiency, effectiveness, capability, and readiness.

Dated: December 23, 2013.
Aaron Siegel,
Alternate OSD Federal Register Liaison Officer, Department of Defense.

[FR Doc. 2013-31041 Filed 12-26-13; 8:45 am]

BILLING CODE 5001-06-P